DEPARTMENT OF TRANSPORTATION

Federal Aviation Administration

[Policy Statement No. ANM-113-04-032]

Certification of an In-seat Video System

AGENCY: Federal Aviation Administration (FAA), DOT.

ACTION: Notice of final policy.

SUMMARY: The Federal Aviation Administration (FAA) announces the availability of final policy on certification of an in-seat video system.

DATES: This final policy was issued by the Transport Airplane Directorate on August 12, 2005.

FOR FURTHER INFORMATION CONTACT: John Piccola, Federal Aviation Administration, Transport Airplane Directorate, Transport Standards Staff, Standardization Branch, ANM-113; 1601 Lind Avenue, SW., Renton, WA 98055-4056; telephone (425) 227-1509; fax (425) 227-1232; e-mail: john.piccola@faa.gov.

SUPPLEMENTARY INFORMATION:

Comments Invited

Disposition of Comments

A notice of proposed policy was published in the Federal Register on December 3, 2004 (69 FR 70303). Two (2) commenters responded to the request for comments.

Background

Based on data industry has presented to the FAA, in-seat video system designs have matured to the point that dedicated testing is not required per 14 CFR 25.601. This policy recommends the use of Aerospace Recommended Practice (ARP) 5475 when abuse load tests are required. This policy adds analysis or inspection as valid means of compliance, in lieu of test. The FAA also clarifies questions that have arisen regarding previously released policy on this subject.

The final policy as well as the disposition of public comments received are available on the Internet at the following address: http://airweb.faa.gov.rgl. If you do not have access to the Internet, you can obtain a copy of the policy by contacting the person listed under FOR FURTHER INFORMATION CONTACT.

Issued in Renton, Washington on August 12, 2005.
Ali Bahrami,
Manager, Transport Airplane Directorate, Aircraft Certification Service.

[FR Doc. 05-16739 Filed 8-22-05; 8:45 am]

BILLING CODE 4910-13-M